ENVIRONMENTAL PROTECTION AGENCY

[FRL-7068-6]

Children's Health Protection Advisory Committee; Notice of Charter Renewal

AGENCY: Environmental Protection Agency (EPA).

ACTION: Notice of charter renewal.

The Charter for the Environmental Protection Agency's Children's Health Protection Advisory Committee (CHPAC); will be renewed for an additional two-year period, as a necessary committee which is in the public interest, in accordance with the provisions of the Federal Advisory Committee Act (FACA), 5 U.S.C. Appl section 9(c). The purpose of CHPAC is to provide advice and recommendations to the Administrator of EPA on issues associated with development of regulations, guidance and policies to address children's health.

It is determined that CHPAC is in the public interest in connection with the performance of duties imposed on the Agency by law.

Inquiries may be directed to Paula Goode, Designated Federal Officer, CHPAC, U.S. EPA, OCHP MC 1107A, 1200 Pennsylvania Avenue, NW., Washington, DC 20460.

Dated: June 12, 2001.
E. Ramona Trovato,
Director, Office of Children's Health Protection.

[FR Doc. 01-24256 Filed 9-26-01; 8:45 am]

BILLING CODE 6560-50-P